NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before January 24, 2011. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of Agriculture, Agricultural Research Service (N1-310-11-1, 3 items, 3 temporary items). Master files of electronic information systems containing information related to agricultural research projects of the mid-Atlantic area, including an integrated farm system model, a dairy greenhouse gas model, and a system that tracks germplasm collections.

2. Department of Commerce, National Institute of Standards and Technology (N1-167-09-3, 2 items, 2 temporary items). Records of the Technology Innovation Program, including project narratives, drawings, correspondence, budget information, project impact reviews, periodic reports, and project assessments.

3. Department of Energy, Federal Energy Regulatory Commission (N1-138-10-4, 10 items, 10 temporary items). Records related to power transmission providers and utilities, including correspondence, tax information, administrative reports, management planning, and delegations of authority.

4. Department of Energy, Western Area Power Administration (N1-201-10-1, 1 item, 1 temporary item). Master files of an electronic information system used to track property, assets, and related work orders for maintenance, labor and materials, parts, and other related information.

5. Department of Health and Human Services, Centers for Medicare & Medicaid Services (N1-440-09-3, 1 item, 1 temporary item). Master files of an electronic information system used to monitor and improve utilization and quality of care for Medicare and Medicaid beneficiaries.

6. Department of Health and Human Services, Centers for Medicare & Medicaid Services (N1-440-10-5, 10 items, 8 temporary items). Records of the senior leadership, including calendars, telephone logs, meeting requests, speech files, conference and public hearing files, briefing books and routine correspondence. Proposed for permanent retention are decision documents, final reports, and substantive correspondence.

7. Department of Homeland Security, U.S. Immigration and Customs Enforcement (N1-567-11-1, 1 item, 1 temporary item). Master files of an electronic information system containing information on a backlog of unresolved immigration surety bonds to facilitate discharging or collecting the bonds.

8. Department of the Interior, Fish and Wildlife Service (N1-22-08-1, 4 items, 3 temporary items). Master files of an electronic information system used to track and present photographs, videos, and other electronic records documenting fish and wildlife activities.

9. Department of Justice, Civil Rights Division (N1-60-09-32, 2 items, 1 temporary item). Inputs of an electronic information system used for voting redistricting activities. Proposed for permanent retention are the master files containing census and geographic information system data used to map proposed changes to voting districts for analysis under Section 5 of the Voting Rights Act.

10. Department of Justice, Federal Bureau of Investigation (N1-65-10-30, 2 items, 2 temporary items). Inputs and master files of an electronic information system used to track police training given to state and local law enforcement officers.

11. Department of Justice, National Drug Intelligence Center (N1-523-10-01, 3 items, 3 temporary items). Public Web site content describing the mission and activities of the National Drug Intelligence center, including materials derived from primary intelligence products.

12. Department of Justice, U.S. Trustee Program (N1-60-09-73, 1 item, 1 temporary item). Master files of an electronic information system used to track appointments of bankruptcy trustees and general case identification.

13. Department of State, Bureau of East Asian and Pacific Affairs (N1-59-10-10, 4 items, 4 temporary items). Records of the Office of Public Affairs (EAP/P), including press guidance files, speaker biographies, public remarks by EAP officials, and Voice of America editorials submitted to EAP/P for comment.

14. Department of Transportation, Federal Highway Administration (N1-406-09-23, 21 items, 21 temporary items). Records of the Federal Aid Division, including highway bridge and tunnel correspondence, designs and plans, geotechnical and hydraulic files, testing of materials, policies and procedures, program files, records of inspections, construction cost files, coordination records, and bridge and tunnel failure records maintained by the field offices.

15. Department of Transportation, Federal Highway Administration (N1-406-09-22, 10 items, 10 temporary items). Records of the Federal Aid Research and Technology program, including planning research files, asphalt and pavement research files, statewide contract files, delineation files, recycling and reuse records, transportation pooled fund studies, and local technical assistance program records.

16. Department of the Treasury, Internal Revenue Service (N1-58-10-14, 1 item, 1 temporary item). Template forms used by taxpayers to update changes related to their filed credit card information.

17. Social Security Administration, Agency-wide (N1-47-10-2, 5 items, 5 temporary items). Content and management records associated with the agency's internal and external Web sites.

Dated: December 17, 2010.
Michael J. Kurtz,
Assistant Archivist for Records Services—Washington, DC.

[FR Doc. 2010-32314 Filed 12-22-10; 8:45 am]

BILLING CODE 7515-01-P